DEPARTMENT OF DEFENSE

Department of the Army; Corps of Engineers

Extension of the Public Comment Period for the Draft Environmental Impact Statement for the Moffat Collection System Project, City and County of Denver, Adams County, Boulder County, Jefferson County, and Grand County, CO

AGENCY: Department of the Army, U.S. Army Corps of Engineers, DoD.

ACTION: Notice.

SUMMARY: The U.S. Army Corps of Engineers (Corps) Omaha District is announcing a 32-day extension of the public comment period for the Moffat Collection System Project (Moffat Project) Draft Environmental Impact Statement (Draft EIS). The originally announced comment period ends on January 28, 2010, but has been extended until March 1, 2010. The original Notice of Availability of the Draft EIS was published in the Federal Register on Friday, October 30, 2009 (74 FR 56186).

DATES: Comments on the Draft EIS should be postmarked no later than March 1, 2010.

ADDRESSES: Written comments on the Draft EIS should be sent to the attention of: Scott Franklin, Moffat EIS Project Manager, U.S. Army Corps of Engineers, Omaha District—Denver Regulatory Office, 9307 South Wadsworth Boulevard, Littleton, CO 80128; via Fax at 303-979-0602; or via e-mail at moffat.eis@usace.army.mil.

SUPPLEMENTARY INFORMATION: None.

Timothy T. Carey,
Chief, Denver Regulatory Office.

[FR Doc. E9-30119 Filed 12-17-09; 8:45 am]

BILLING CODE 3720-58-P